DEPARTMENT OF ENERGY

Federal Energy Regulatory Commission

18 CFR Parts 35, 131, 154, 157, 250, 281, 284, 300, 341, 344, 346, 347, 348, 375, and 385

[Docket No. RM01-5-000]

Electronic Tariff Filings

September 17, 2004.

AGENCY: Federal Energy Regulatory Commission, DOE.

ACTION: Notice of proposed rulemaking; extension of comment deadline.

SUMMARY: The Federal Energy Regulatory Commission is extending the October 4, 2004, deadline for comments on the Commission's July 8, 2004, Notice of Proposed Rulemaking. (69 FR 43929, July 23, 2004.) A document will be published in the Federal Register to establish the new comment date.

DATES: A document will be published in the Federal Register establishing the new comment date.

ADDRESSES: Comments may be filed electronically via the eFiling link on the Commission's Web site at http://www.ferc.gov. Commenters unable to file comments electronically must send an original and 14 copies of their comments to: Federal Energy Regulatory Commission, Office of the Secretary, 888 First Street, NE., Washington, DC 20426. Refer to the Comment Procedures section of the preamble of the Notice of Proposed Rulemaking for additional information on how to file comments.

FOR FURTHER INFORMATION CONTACT:

H. Keith Pierce (Technical Information), Office of Markets, Tariffs, and Rates, Federal Energy Regulatory Commission, 888 First Street, NE., Washington, DC 20426. (202) 502-8525, Keith.Pierce@ferc.gov.

Jamie Chabinsky (Legal Information), Office of the General Counsel, Federal Energy Regulatory Commission, 888 First Street, NE., Washington, DC 20426. (202) 502-6040, Jamie.Chabinsky@ferc.gov.

Bolton Pierce (Software Information), Office of Markets, Tariffs, and Rates, Federal Energy Regulatory Commission, 888 First Street, NE., Washington, DC 20426. (202) 502-8803, Bolton.Pierce@ferc.gov.

SUPPLEMENTARY INFORMATION:

Electronic Tariff Filings; Notice of Extension of Comment Deadline

Take notice that the Federal Energy Regulatory Commission is extending the October 4, 2004, deadline for comments on the Commission's July 8, 2004, Notice of Proposed Rulemaking ¹ on electronic tariff and rate case filing. This extension is to allow time for continued development and experimental use of the software to be used for tariff and rate filings. A subsequent notice will be published establishing the new comment date as well as the date for the technical conference.

¹ Electronic Tariff Filings, Notice of Proposed Rulemaking, 69 FR 43929 (July 23, 2004), FERC Stats. & Regs. Proposed Regulations ¶ 32,575 (July 8, 2004).

For more information, please contact: Keith Pierce, Office of Markets, Tariffs, and Rates, Federal Energy Regulatory Commission, 888 First Street, NE., Washington, DC 20426. 202-502-8525, Keith.Pierce@ferc.gov.

Magalie R. Salas,
Secretary.

[FR Doc. 04-21467 Filed 9-27-04; 8:45 am]

BILLING CODE 6717-01-P